DEPARTMENT OF JUSTICE

Notice of Lodging of Consent Decree Pursuant to the Comprehensive Environmental Response, Compensation and Liability Act

In accordance with Departmental policy, 28 CFR § 50.7, notice is hereby given that a consent decree in United States v. Lightman, et al., Civil No. 92-4710 (D.N.J.), was lodged on January 8, 2001 with the United States District Court for the District of New jersey.

The proposed consent decree embodies an agreement with Jerome Lightman and Lightman Drum Company, pursuant to Section 107 of CERCLA, 42 U.S.C. § 9607, to pay approximately $550,000 in settlement of claims for EPA's past and future response costs at three Superfund sites, the D'Imperio Property Superfund Site in Hamilton Township, New Jersey, the Ewan Superfund Site in Shamong Township, New Jersey, and the Duane Marine Superfund Site in Perth Amboy, New Jersey.

The monies paid by the settling defendants under the consent decree will be used to reimburse past costs incurred at the three sites. The consent decree provides the settling defendants with releases for civil liability for EPA's past and future CERCLA response costs at the three sites.

The Department of Justice will receive, for a period of thirty (30) days from the date of this publication, comments relating to the proposed consent decree. Comments should be addressed to the Assistant Attorney General for the Environment and Natural Resources Division, U.S. Department of Justice, P.O. Box 7611, Washington, DC 20044-7611, and should refer to United States v. Lightman, et al., DOJ Ref. No. 90-11-3-942A.

The proposed consent decree may be examined at the Office of the United States Attorney, Post Office Bldg., 4th Floor, 4th and Market Streets, Camden, NJ 08101, and at the Region II Office of the Environmental Protection Agency, Region II Records Center, 290 Broadway, 17th Floor, New York, NY 10007-1866. A copy of the proposed consent decree may be obtained by mail from the Consent Decree Library, P.O. Box 7611, Washington, DC 20044-7611. In requesting a copy, please refer to the referenced case and enclose a check in the amount of $5.75 (25 cents per page reproduction costs), payable to the Consent Decree Library.

Bruce Gelber,
Chief, Environmental Enforcement Section, Environment and Natural Resources Division.

[FR Doc. 01-1733 Filed 1-19-01; 8:45 am]

BILLING CODE 4410-15-M